DEPARTMENT OF ENERGY

Federal Energy Regulatory Commission

Combined Notice of Filings

Take notice that the Commission has received the following Natural Gas Pipeline Rate and Refund Report filings:

Filings Instituting Proceedings

Docket Numbers: PR22-45-000.

Applicants: Targa SouthTex Mustang Transmission Ltd.

Description: § 284.123 Rate Filing: 311 Statement of Operating Conditions to be effective 5/26/2022.

Filed Date: 5/26/22.

Accession Number: 20220526-5121.

Comments/Protests Due: 5 p.m. ET 6/16/22.

Docket Numbers: PR22-46-000.

Applicants: Targa SouthTex Transmission LP.

Description: § 284.123 Rate Filing: 311 Statement of Operating Conditions to be effective 5/26/2022.

Filed Date: 5/26/22.

Accession Number: 20220526-5123.

Comments/Protests Due: 5 p.m. ET 6/16/22.

Docket Numbers: RP22-933-000.

Applicants: TransColorado Gas Transmission Company LLC.

Description: § 4(d) Rate Filing: Qtrly FL&U Update to be effective 7/1/2022.

Filed Date: 5/26/22.

Accession Number: 20220526-5023.

Comment Date: 5 p.m. ET 6/7/22.

Docket Numbers: RP22-934-000.

Applicants: Gulfstream Natural Gas System, L.L.C.

Description: § 4(d) Rate Filing: Negotiated Rate—Amended Central Fl Gas 9000107 to be effective 6/1/2022.

Filed Date: 5/26/22.

Accession Number: 20220526-5027.

Comment Date: 5 p.m. ET 6/7/22.

Docket Numbers: RP22-935-000.

Applicants: Colorado Interstate Gas Company, L.L.C.

Description: § 4(d) Rate Filing: Fuel and Lost Unaccounted For to be effective 7/1/2022.

Filed Date: 5/26/22.

Accession Number: 20220526-5045.

Comment Date: 5 p.m. ET 6/7/22.

Docket Numbers: RP22-936-000.

Applicants: El Paso Natural Gas Company, L.L.C.

Description: § 4(d) Rate Filing: Negotiated Rate Agreement Update (SoCal Jun-Aug 2022) to be effective 6/1/2022.

Filed Date: 5/26/22.

Accession Number: 20220526-5112.

Comment Date: 5 p.m. ET 6/7/22.

Docket Numbers: RP22-937-000.

Applicants: Wyoming Interstate Company, L.L.C.

Description: § 4(d) Rate Filing: Transportation Agreement Filing (Continental Replacment TSA) to be effective 6/1/2022.

Filed Date: 5/26/22.

Accession Number: 20220526-5120.

Comment Date: 5 p.m. ET 6/7/22.

Docket Numbers: RP22-938-000.

Applicants: El Paso Natural Gas Company, L.L.C.

Description: § 4(d) Rate Filing: Non-Conforming Agreements Update (SRP) to be effective 6/1/2022.

Filed Date: 5/26/22.

Accession Number: 20220526-5193.

Comment Date: 5 p.m. ET 6/7/22.

Docket Numbers: RP22-939-000.

Applicants: Caledonia Energy Partners, L.L.C.

Description: Compliance filing: Caledonia Energy Notice of Change in Circumstances to be effective N/A.

Filed Date: 5/26/22.

Accession Number: 20220526-5235.

Comment Date: 5 p.m. ET 6/7/22.

Docket Numbers: RP22-940-000.

Applicants: Freebird Gas Storage, L.L.C.

Description: Compliance filing: Freebird Gas Storage Notice of Change in Circumstances to be effective N/A.

Filed Date: 5/26/22.

Accession Number: 20220526-5239.

Comment Date: 5 p.m. ET 6/7/22.

Docket Numbers: RP22-941-000.

Applicants: Mississippi Hub, LLC.

Description: Compliance filing: Mississippi Hub Notice of Change in Circumstances to be effective N/A.

Filed Date: 5/26/22.

Accession Number: 20220526-5240.

Comment Date: 5 p.m. ET 6/7/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 27, 2022.
Debbie-Anne A. Reese,
Deputy Secretary.

[FR Doc. 2022-11932 Filed 6-2-22; 8:45 am]

BILLING CODE 6717-01-P